DEPARTMENT OF COMMERCE

International Trade Administration

[A-821-831, A-274-808]

Urea Ammonium Nitrate Solutions From the Russian Federation and the Republic of Trinidad and Tobago: Initiation of Less-Than-Fair-Value Investigations

AGENCY: Enforcement and Compliance, International Trade Administration, Department of Commerce.

DATES: Applicable July 20, 2021.

FOR FURTHER INFORMATION CONTACT: Laura Griffith at (202) 482-6430 (the Russian Federation (Russia)) or Lilit Astvatsatrian at (202) 482-6412 or Dakota Potts at (202) 482-0223 (the Republic of Trinidad and Tobago (Trinidad and Tobago)); AD/CVD Operations, Offices III and IV, Enforcement and Compliance, International Trade Administration, U.S. Department of Commerce, 1401 Constitution Avenue NW, Washington, DC 20230.

SUPPLEMENTARY INFORMATION:

The Petitions

On June 30, 2021, the Department of Commerce (Commerce) received antidumping duty (AD) petitions (the Petitions) concerning imports of Urea Ammonium Nitrate Solutions (UAN) from Russia and Trinidad and Tobago, filed in proper form on behalf of CF Industries Nitrogen, LLC and its subsidiaries, Terra Nitrogen, Limited Partnership and Terra International (Oklahoma) LLC (collectively, the petitioner), domestic producers of UAN.¹ The Petitions were accompanied by countervailing duty (CVD) petitions concerning imports of UAN from Russia and Trinidad and Tobago.²

¹ See Petitioner's Letter, “Petitions for the Imposition of Antidumping and Countervailing Duties: Urea Ammonium Nitrate Solutions from the Russian Federation and the Republic of Trinidad and Tobago,” dated June 30, 2021 (the Petitions).

² Id.

On July 2 and 6, 2021, Commerce requested supplemental information pertaining to certain aspects of the Petitions.³ The petitioner filed responses to these requests on July 7 and 8, 2021.⁴

³ See Commerce's Letters, “Petition for the Imposition of Antidumping Duties on Imports of Urea Ammonium Nitrate Solutions from Trinidad and Tobago: Supplemental Questions,” dated July 2, 2021; “Petitions for the Imposition of Antidumping and Countervailing Duties on Imports of Urea Ammonium Nitrate Solutions from Russia and Trinidad and Tobago: Supplemental Questions,” dated July 6, 2021 (General Issues Supplement Questions); and “Petition for the Imposition of Antidumping Duties on Imports of Urea Ammonium Nitrate Solutions from the Russian Federation: Supplemental Questions,” dated July 6, 2021.

⁴ See Petitioner's Letters, “Petitions for the Imposition of Antidumping and Countervailing Duties on Imports of Urea Ammonium Nitrate Solutions from Russia and Trinidad and Tobago: Petitioner's Response to the Department's General Issues Questionnaire,” dated July 8, 2021 (General Issues Supplement); “Petition for the Imposition of Antidumping Duties on Imports of Urea Ammonium Nitrate Solutions from Trinidad and Tobago: Petitioner's Response to the Department's Supplemental Questions,” dated July 7, 2021; and “Petition for the Imposition of Antidumping Duties on Imports of Urea Ammonium Nitrate Solutions from the Russian Federation: Petitioner's Response to the Department's Supplemental Questions,” dated July 8, 2021 (Russia AD Supplement).

In accordance with section 732(b) of the Tariff Act of 1930, as amended (the Act), the petitioner alleges that imports of UAN from Russia and Trinidad and Tobago are being, or are likely to be, sold in the United States at less than fair value (LTFV) within the meaning of section 731 of the Act, and that imports of such products are materially injuring, or threatening material injury to, the UAN industry in the United States. Consistent with section 732(b)(1) of the Act, the Petitions are accompanied by information reasonably available to the petitioner supporting its allegations.

Commerce finds that the petitioner filed the Petitions on behalf of the domestic industry, because the petitioner is an interested party, as defined in section 771(9)(C) of the Act. Commerce also finds that the petitioner demonstrated sufficient industry support for the initiation of the requested AD investigations.⁵

⁵ See infra, section on “Determination of Industry Support for the Petitions.”

Periods of Investigation

Because the Petitions were filed on June 30, 2021, the period of investigation (POI) for the Russia and Trinidad and Tobago AD investigations is April 1, 2020, through March 31, 2021, pursuant to 19 CFR 351.204(b)(1). The petitioner argued that Commerce should determine in this investigation that Russia is a nonmarket economy (NME) within the meaning of section 771(18)(A) of the Act and should calculate normal value (NV) for Russia in accordance with its NME methodology.⁶ Under that allegation, the appropriate POI is October 1, 2020, through March 31, 2021.

⁶ See Petitions at Volume II at II-6 through II-28 and Exhibits II-22 through II-72.

Scope of the Investigations

The product covered by these investigations is UAN from Russia and Trinidad and Tobago. For a full description of the scope of these investigations, see the appendix to this notice.

Comments on the Scope of the Investigations

On July 6, 2021, Commerce requested further information and clarification from the petitioner regarding the proposed scope to ensure that the scope language in the Petitions is an accurate reflection of the products for which the domestic industry is seeking relief.⁷ On July 8, 2021, the petitioner revised the scope.⁸ The description of merchandise covered by these investigations, as described in the appendix to this notice, reflects these clarifications.

⁷ See General Issues Supplement Questions at 3.

⁸ See General Issues Supplement at I-1 and I-2.

As discussed in the Preamble to Commerce's regulations, we are setting aside a period of time for interested parties to raise issues regarding product coverage (i.e., scope).⁹ Commerce will consider all comments received from interested parties and, if necessary, will consult with interested parties prior to the issuance of the preliminary determinations. If scope comments include factual information,¹⁰ all such factual information should be limited to public information. To facilitate preparation of its questionnaires, Commerce requests that all interested parties submit such comments by 5:00 p.m. Eastern Time (ET) on August 9, 2021, which is 20 calendar days from the signature date of this notice. Any rebuttal comments, which may include factual information, must be filed by 5:00 p.m. ET on August 19, 2021, which is 10 calendar days from the initial comment deadline.

⁹ See Antidumping Duties; Countervailing Duties, Final Rule, 62 FR 27296, 27323 (May 19, 1997) (Preamble).

¹⁰ See 19 CFR 351.102(b)(21) (defining “factual information”).

Commerce requests that any factual information that parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically using Enforcement and Compliance's Antidumping Duty and Countervailing Duty Centralized Electronic Service System (ACCESS).¹¹ An electronically filed document must be received successfully in its entirety by the time and date it is due. Note that Commerce has temporarily modified certain of its requirements for serving documents containing business proprietary information, until further notice.¹²

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

¹² See Temporary Rule Modifying AD/CVD Service Requirements Due to COVID-19; Extension of Effective Period, 85 FR 41363 (July 10, 2020).

Comments on Product Characteristics

Commerce is providing interested parties an opportunity to comment on the appropriate physical characteristics of UAN to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe UAN, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on August 9, 2021, which is 20 calendar days from the signature date of this notice. Any rebuttal comments must be filed by 5:00 p.m. ET on August 19, 2021. All comments and submissions to Commerce must be filed electronically using ACCESS, as explained above, on the record of each of the AD investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁵ Based on our analysis of the information submitted on the record, we have determined that UAN, as defined in the scope, constitutes a single domestic like product, and we have analyzed industry support in terms of that domestic like product.¹⁶

¹⁵ See Petitions at Volume I at I-15 through I-19 and Exhibits I-3, I-8, I-12, I-14, I-18, and I-25—I-27.

¹⁶ For a discussion of the domestic like product analysis as applied to these cases and information regarding industry support, see Checklists, “Antidumping Duty Investigation Initiation Checklists: Urea Ammonium Nitrate Solutions from the Russian Federation and the Republic of Trinidad and Tobago,” (Country-Specific AD Initiation Checklists) at Attachment II, Analysis of Industry Support for the Antidumping and Countervailing Duty Petitions Covering Urea Ammonium Nitrate Solutions from the Russian Federation and the Republic of Trinidad and Tobago (Attachment II). These checklists are dated concurrently with this notice and on file electronically via ACCESS.

In determining whether the petitioner has standing under section 732(c)(4)(A) of the Act, we considered the industry support data contained in the Petitions with reference to the domestic like product as defined in the “Scope of the Investigations,” in the appendix to this notice. To establish industry support, the petitioner provided its own 2020 production of the domestic like product.¹⁷ Additionally, the petitioner provided letters of support from other producers of UAN, stating their support for the Petitions and providing their own production of the domestic like product in 2020.¹⁸ The petitioner also provided the 2020 production of the entire U.S. industry using published monthly 2020 U.S. UAN production data.¹⁹ The petitioner added its 2020 UAN production to that of the domestic producers expressing support for the petitions, and compared the total to the 2020 U.S. UAN production data.²⁰ We relied on the data provided by the petitioner for purposes of measuring industry support.²¹

¹⁷ See Petitions at Volume I at I-4 through I-5 and Exhibit I-6.

¹⁸ See Petitions at Volume I at I-4 and Exhibits I-5 and I-6.

¹⁹ See Petitions at Volume I at I-4 and Exhibit I-6; see also General Issues Supplement at I-3 through I-4 and Exhibits I-49, I-51, I-52.

²⁰ See Petitions at Volume I at I-4 through I-5 and Exhibits I-6 and I-7; see also General Issues Supplement at I-3 through I-4 and Exhibits I-51, and I-52.

²¹ See Petitions at Volume I at I-4 through I-5 and Exhibits I-1, I-2, and I-5 through I-7; see also General Issues Supplement at I-3 through I-4 and Exhibits I-49 through I-52.

Our review of the data provided in the Petitions, the General Issues Supplement, and other information readily available to Commerce indicates that the petitioner has established industry support for the Petitions.²² First, the Petitions established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petitions account for at least 25 percent of the total production of the domestic like product.²⁴ Finally, the domestic producers (or workers) have met the statutory criteria for industry support under section 732(c)(4)(A)(ii) of the Act because the domestic producers (or workers) who support the Petitions account for more than 50 percent of the production of the domestic like product produced by that portion of the industry expressing support for, or opposition to, the Petitions.²⁵ Accordingly, Commerce determines that the Petitions were filed on behalf of the domestic industry within the meaning of section 732(b)(1) of the Act.²⁶

²² Id. For further discussion, see Attachment II of the Country-Specific AD Initiation Checklists.

²³ Id.; see also section 732(c)(4)(D) of the Act.

²⁴ See Attachment II of the Country-Specific AD Initiation Checklists.

²⁵ Id.

²⁶ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁷

²⁷ See Petitions at Volume I at I-24 through I-25 and Exhibit I-32.

The petitioner contends that the industry's injured condition is illustrated by a significant and increasing volume of subject imports; impacts on market share; underselling and price suppression; lost sales and revenues; flatlined production, capacity utilization, and employment variables; and declining financial performance.²⁸ We assessed the allegations and supporting evidence regarding material injury, threat of material injury, causation, as well as negligibility, and we have determined that these allegations are properly supported by adequate evidence, and meet the statutory requirements for initiation.²⁹ In accordance with section 771(7)(G)(ii)(III) of the Act, which provides an exception to the mandatory cumulation provision for imports from any country designated as a beneficiary country under the Caribbean Basin Economic Recovery Act (CBERA), we considered the petitioner's allegation of injury with respect to Trinidad and Tobago, a designated beneficiary under CBERA, independently of the allegation for Russia and found that the information provided satisfies the requirements for initiation.³⁰

²⁸ See Petitions at Volume I at I-20 through I-40 and Exhibits I-2, I-3, I-10, I-12, I-24, I-26, and I-28 through I-48.

²⁹ See Country-Specific AD Initiation Checklists at Attachment III, Analysis of Allegations and Evidence of Material Injury and Causation for the Antidumping and Countervailing Duty Petitions Covering Urea Ammonium Nitrate Solutions from the Russian Federation and the Republic of Trinidad and Tobago (Attachment III).

³⁰ Id.

Allegations of Sales at LTFV

The following is a description of the allegations of sales at LTFV upon which Commerce based its decision to initiate AD investigations of imports of UAN from Russia and Trinidad and Tobago. The sources of data for the deductions and adjustments relating to U.S. price and NV are discussed in greater detail in the Country-Specific AD Initiation Checklists.

U.S. Price

For Russia and Trinidad and Tobago, the petitioner based export price (EP) on transaction-specific average unit values (AUVs) derived from official import statistics for imports under HTSUS subheading 3102.80.0000 obtained from the ITC's Dataweb and tied to ship manifest data.³¹ The petitioner made certain adjustments to U.S. price to calculate a net ex-factory U.S. price.³²

³¹ See Country-Specific AD Initiation Checklists.

³² Id.

Normal Value ³³

³³ In accordance with section 773(b)(2) of the Act, for the Russia and Trinidad and Tobago investigations, Commerce will request information necessary to calculate the constructed value (CV) and cost of production (COP) to determine whether there are reasonable grounds to believe or suspect that sales of the foreign like product have been made at prices that represent less than the COP of the product.

For Trinidad and Tobago, the petitioner stated that home market prices were not available and, as such, based NV on third country prices using Canadian import AUVs for the POI.³⁴

³⁴ See Trinidad and Tobago AD Initiation Checklist.

For Russia, the petition included NV using both the NME and market economy (ME) methodologies.³⁵ The petitioner based the ME NV on Russian UAN prices derived from an information subscription service that tracks energy and commodity prices.³⁶ The petition based the NME NV on factors of production (FOPs) valued in a surrogate market economy country in accordance with section 773(c) of the Act.³⁷ The petitioner claims that Poland is an appropriate surrogate country for Russia because Poland is a market economy country that is at a level of economic development comparable to that of Russia and is a significant producer of identical merchandise.³⁸ The petitioner provided publicly available information from Poland to value all FOPs.³⁹ Based on the petitioner's allegation and information provided in the petition, Poland was used for initiation purposes.

³⁵ See Russia AD Initiation Checklist.

³⁶ Id.

³⁷ Id.

³⁸ See Petitions at Volume II at II-29 and Exhibits II-73 through II-75.

³⁹ See Petitions at Volume II at II-30 through II-31 and Exhibits II-77 through II-81; see also Russia AD Supplement at II-3 through II-4 and Exhibits II-88, II-90, and II-91.

Interested parties will have the opportunity to submit comments regarding surrogate country selections and, pursuant to 19 CFR 351.301(c)(3)(i), will be provided an opportunity to submit publicly available information to value FOPs within 30 days before the scheduled date of the preliminary determination.

Factors of Production

Because information regarding the volume of inputs consumed by Russian producers/exporters was not reasonably available, the petitioner used its own product-specific consumption rates as a surrogate to value Russian manufacturers' FOPs.⁴⁰ Additionally, the petitioner calculated factory overhead; selling, general and administrative expenses; and profit based on the experience of a Polish producer of comparable merchandise.⁴¹

⁴⁰ See Petitions at Volume II at II-29 and II-30 and Exhibit II-76; see also Russia AD Supplement at II-2 and II-3 and Exhibit II-86.

⁴¹ See Petitions at Volume II at II-29 and II-30 and Exhibits II-77 through II-81; see also Russia AD Supplement at II-3 and II-4 and Exhibits II-88 and II-91.

Fair Value Comparisons

Based on the data provided by the petitioner, there is reason to believe that imports of UAN from Russia and Trinidad and Tobago are being, or are likely to be, sold in the United States at LTFV. Based on comparisons of EP to NV in accordance with sections 772 and 773 of the Act, the estimated dumping margin for UAN from Trinidad and Tobago is 158.81 percent.⁴² Under the ME methodology, the estimated dumping margins for UAN from Russia are 169.96 percent and 391.65 percent for purposes of initiation. In light of the petitioner's allegation in the petition that Russia is an NME, under its NME methodology, the estimated dumping margins for UAN from Russia are 245.98 percent and 433.37 percent for purposes of initiation.⁴³

⁴² See Country-Specific AD Initiation Checklist for details of these margin calculations.

⁴³ See Country-Specific AD Initiation Checklist for details of these margin calculations.

Initiation of LTFV Investigations

Based upon the examination of the Petitions and supplemental responses, we find that they meet the requirements of section 732 of the Act. Therefore, we are initiating AD investigations to determine whether imports of UAN from Russia and Trinidad and Tobago are being, or are likely to be, sold in the United States at LTFV. In accordance with section 733(b)(1)(A) of the Act and 19 CFR 351.205(b)(1), unless postponed, we will make our preliminary determinations no later than 140 days after the date of this initiation.

Respondent Selection

Russia

In the Petitions, the petitioner identified four companies as producers/exporters of UAN in Russia (i.e., EuroChem, Acron Group (Acron), PJSC Kuibyshev Azot, and SBU Azot). We intend to issue quantity and value (Q&V) questionnaires to each potential respondent in Russia identified in the Petitions. In the event Commerce determines that the number of companies is large and it cannot individually examine each company based upon Commerce's resources, where appropriate, Commerce intends to select mandatory respondents based on responses to the Q&V questionnaires.

Producers/exporters of UAN from Russia that do not receive Q&V questionnaires by mail may still submit a response to the Q&V questionnaire and can obtain a copy of the Q&V questionnaire from Enforcement and Compliance (E&C)'s website at https://enforcement.trade.gov/questionnaires/questionnaires-ad.html. The Q&V response must be submitted by the relevant exporters/producers in Russia no later than 5:00 p.m. ET on August 3, 2021, which is two weeks from the signature date of this notice. All Q&V responses must be filed electronically via ACCESS.

Trinidad and Tobago

In the Petitions, the petitioner identified one company in Trinidad and Tobago as producer/exporter of UAN (i.e., Methanol Holdings (Trinidad) Limited) and provided independent, third party information for support.⁴⁴ We currently know of no additional producers or exporters of UAN from Trinidad and Tobago. Accordingly, Commerce intends to individually examine all known producers and exporters in the investigation of UAN from Trinidad and Tobago ((i.e., Methanol Holdings (Trinidad) Limited).

⁴⁴ See Petitions at Volume I at I-14 and Exhibit I-4; see also Petitions at Volume IV at Exhibit IV-7.

Parties wishing to comment on respondent selection for Trinidad and Tobago must do so within three business days of the publication of this notice in the Federal Register. Commerce will not accept rebuttal comments regarding respondent selection for Trinidad and Tobago.

Comments on respondent selection must be filed electronically using ACCESS. An electronically-filed document must be received successfully in its entirety via ACCESS by 5:00 p.m. ET on the specified deadline.

Interested parties must submit applications for disclosure under APO in accordance with 19 CFR 351.305(b). Instructions for filing such applications may be found on Commerce's website at http://enforcement.trade.gov/apo.

Separate Rates

Upon applying an NME methodology, Commerce will consider assigning separate rates to exporters and producers. In order to obtain separate-rate status in an NME investigation, exporters and producers must submit a separate-rate application.⁴⁵ The specific requirements for submitting a separate-rate application in an NME investigation are outlined in detail in the application itself, which will be available on E&C's website at http://enforcement.trade.gov/nme/nme-sep-rate.html. The separate-rate application will be due 30 days after publication of this initiation notice.⁴⁶ Exporters and/or producers who submit a separate-rate application and have been selected as mandatory respondents will be eligible for consideration for separate-rate status only if they respond to all parts of Commerce's AD questionnaire as mandatory respondents. Commerce requires that respondents from Russia submit a response to both the Q&V questionnaire and the separate-rate application by the respective deadlines in order to receive consideration for separate-rate status. Companies not filing a timely Q&V questionnaire response will not receive separate rate consideration.

⁴⁵ See Policy Bulletin 05.1: “Separate-Rates Practice and Application of Combination Rates in Antidumping Investigation involving NME Countries,” (April 5, 2005), available at http://enforcement.trade.gov/policy/bull05-1.pdf (Policy Bulletin 05.1).

⁴⁶ Although in past investigations this deadline was 60 days, consistent with 19 CFR 351.301(a), which states that “the Secretary may request any person to submit factual information at any time during a proceeding,” this deadline is now 30 days.

Use of Combination Rates

Upon applying an NME methodology, Commerce will calculate combination rates for certain respondents that are eligible for a separate rate in an NME investigation. The Separate Rates and Combination Rates Bulletin states:

{w}hile continuing the practice of assigning separate rates only to exporters, all separate rates that {Commerce} will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.⁴⁷

⁴⁷ See Policy Bulletin 05.1 at 6 (emphasis added).

Distribution of Copies of the Petitions

In accordance with section 732(b)(3)(A) of the Act and 19 CFR 351.202(f), copies of the public version of the Petitions have been provided to the governments of Russia and Trinidad and Tobago via ACCESS. To the extent practicable, we will attempt to provide a copy of the public version of the Petitions to each exporter named in the Petitions, as provided under 19 CFR 351.203(c)(2).

ITC Notification

Commerce will notify the ITC of its initiation, as required by section 732(d) of the Act.

Preliminary Determinations by the ITC

The ITC will preliminarily determine, within 45 days after the date on which the Petitions were filed, whether there is a reasonable indication that subject imports are materially injuring or threatening material injury to a U.S. industry.⁴⁸ A negative ITC determination for any country will result in the investigation being terminated with respect to that country.⁴⁹ Otherwise, these AD investigations will proceed according to statutory and regulatory time limits.

⁴⁸ See section 733(a) of the Act.

⁴⁹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵⁰ and, if the information is submitted to rebut, clarify, or correct factual information already on the record, to provide an explanation identifying the information already on the record that the factual information seeks to rebut, clarify, or correct.⁵¹ Time limits for the submission of factual information are addressed in 19 CFR 351.301, which provides specific time limits based on the type of factual information being submitted. Interested parties should review the regulations prior to submitting factual information in these investigations.

⁵⁰ See 19 CFR 351.301(b).

⁵¹ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; Commerce will grant untimely filed requests for the extension of time limits only in limited cases where we determine, based on 19 CFR 351.302, that extraordinary circumstances exist. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁵² Parties must use the certification formats provided in 19 CFR 351.303(g).⁵³ Commerce intends to reject factual submissions if the submitting party does not comply with the applicable certification requirements.

⁵² See section 782(b) of the Act.

⁵³ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letter of appearance).

This notice is issued and published pursuant to sections 732(c)(2) and 777(i) of the Act, and 19 CFR 351.203(c).

Dated: July 20, 2021.
Ryan Majerus,
Deputy Assistant Secretary for Policy and Negotiations.

Appendix—Scope of the Investigations

The merchandise covered by these investigations is all mixtures of urea and ammonium nitrate in aqueous or ammonia solution, regardless of nitrogen concentration by weight, and regardless of the presence of additives, such as corrosion inhibiters and soluble micro or macronutrients (UAN).

Subject merchandise includes merchandise matching the above description that has been processed in a third country, including by commingling, diluting, adding or removing additives, or performing any other processing that would not otherwise remove the merchandise from the scope of the investigations if performed in the subject country.

The scope also includes UAN that is commingled with UAN from sources not subject to these investigations. Only the subject component of such commingled products is covered by the scope of these investigations.

The covered merchandise is currently classified in the Harmonized Tariff Schedule of the United States (HTSUS) at subheading 3102.80.0000. Although the HTSUS subheading is provided for convenience and customs purposes, the written description of the scope is dispositive.

[FR Doc. 2021-15889 Filed 7-23-21; 8:45 am]

BILLING CODE 3510-DS-P